DEPARTMENT OF LABOR

Employment and Training Administration

[TA-W-54,183]

Northland Cranberries, Inc., Jackson Plant, Jackson, Wisconsin; Notice of Negative Determination Regarding Application for Reconsideration

By application of April 21, 2004, a petitioner requested administrative reconsideration of the Department's negative determination regarding eligibility for workers and former workers of the subject firm to apply for Trade Adjustment Assistance (TAA). The denial notice was signed on March 17, 2004, and published in the Federal Register on April 6, 2004 (69 FR 18109).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition, filed on behalf of workers at Northland Cranberries, Inc., Jackson Plant, Jackson, Wisconsin, was denied because the “contributed importantly” group eligibility requirement of section 222 of the Trade Act of 1974, as amended, was not met. The “contributed importantly” test is generally demonstrated through a survey of the workers' firm's customers. The Department conducted a survey of the entities to which the subject facility submitted bids for bottled juice products in 2002, 2003 and January 2004. This survey revealed no bids of bottled juice products awarded to foreign entities during the relevant period. The subject firm did not increase its reliance on imports of bottled juice products during the relevant period.

The request for reconsideration alleges that the company was importing raw materials.

The foreign sourcing of raw materials is not a factor in determining the import impact of the finished product. In assessing import impact in connection with petitioning worker eligibility for TAA, the Department considers data regarding imports that are like or directly competitive with those produced at the subject firm.

The petitioner further alleges that two major customers of the subject firm “pulled out” of Northland Cranberries, Inc. to use other companies including foreign bottling facilities.

The Department conducted a survey of the additional customers provided by the petitioner in the request for reconsideration. These customers reported no imports of like or directly competitive products with those manufactured by the subject firm during the relevant period. The surveyed customers further stated that all bottling of juices previously done for them by the subject firm was shifted to other domestic facilities.

Conclusion

After review of the application and investigative findings, I conclude that there has been no error or misinterpretation of the law or of the facts which would justify reconsideration of the Department of Labor's prior decision. Accordingly, the application is denied.

Signed at Washington, DC, this 4th day of June, 2004.
Elliott S. Kushner,
Certifying Officer, Division of Trade Adjustment Assistance.

[FR Doc. 04-13385 Filed 6-14-04; 8:45 am]

BILLING CODE 4510-30-P